DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, e-mail paperwork@hrsa.gov or call the HRSA Reports Clearance Office on (301) 443-1129.

The following request has been submitted to the Office of Management and Budget for review under the Paperwork Reduction Act of 1995:

Proposed Project: Patient Navigator Outreach and Chronic Disease Prevention Demonstration Program Patient Data Collection Form—[New]

The purpose of the Patient Navigator Outreach and Chronic Disease Prevention (PN) Demonstration Program is to promote model “patient navigator” programs to improve health care outcomes for individuals with cancer and/or other chronic diseases, with a specific emphasis on health disparity populations. This program aims to coordinate comprehensive health services for patients in need of chronic disease care and management through enhanced chronic disease management provided by patient navigators.

In order to describe successful PN program models and make recommendations on the ability of such programs to improve patient outcomes, data is needed at the individual patient, patient navigator, and PN program levels. This information includes:

■ Sociodemographics of patients (e.g., insurance status, income, education level, gender, age, race and ethnicity, primary language, number of family dependents) served;

■ Patient access barriers to standard chronic disease care (e.g., access to pharmaceuticals, distance of patient's home from health care facilities utilized, primary mode of transportation to health care facilities utilized, cultural and linguistic barriers as well as literacy levels);

■ Health care service utilization (e.g., screening rates, compliance rate for appointments and follow-up exams, time interval between diagnosis or referral and resolution date);

■ Patient health status (e.g., type and stage of diagnosis, chronic disease status, final outcome or result); and

■ Patient navigation data (e.g., type of navigator, patient navigation training plans and outcomes, point at which patient navigator was brought into the process, number of patients referred, how patient barriers were resolved, patient satisfaction, follow-up outcomes—such as number of uninsured who get health coverage).

This information will be collected from patients or their designated caregiver, patient navigators, and PN program administrators. Maintaining confidentiality of patient medical information is a concern and thus all personal information will be de-identified to protect the confidentiality of all patients. Data collection and disclosure processes will abide by Health Insurance Portability and Accountability Act (HIPPA) Privacy Rule provisions and procedures.

The annual estimate of burden is as follows:

Form | Number of respondents | Responses per respondent | Total responses | Hours per response | Total burden hours
Navigated Patient ¹ Data Intake Form | 6000 | 1 | 6000 | 0.5 | 3000
SubTotal—Patient Burden | 6000 | 1 | 6000 | 0.5 | 3000
Patient Navigator Survey | 30 | 1 | 30 | 0.25 | 7.5
Patient Navigator Encounter/Tracking Log ² | 30 | 750 | 22,500 | 0.25 | 5625
SubTotal—Patient Navigator Burden | 30 | 751 | 22530 | 0.5 | 5632.5
Grantee PN Administrative Records ³ | 6 | 1 | 6 | 0.5 | 3
Medical Record and Clinic Data ⁴ (Baseline Measures) | 6 | 2000 | 12000 | 2 | 24000
Quarterly Report | 6 | 4 | 24 | 1 | 24
SubTotal—Grantee Burden | 18 | 2005 | 12030 | 3.5 | 24027
Total Average Annual Burden | 6048 | 2757 | 40560 | 4.5 | 32659.5
¹ Estimated number of navigated patients per year based on applications was rounded to 6000. See table below for projected numbers navigated by Grantee.
² Assumes 5 log entries of PN activities per patient.
³ Includes administrative data related to PN recruitment, hiring, and training.
⁴ Includes medical record abstraction and clinic database abstraction on individual patients (note: Decreased to 2 hours per patient).

| Over 2 yrs | Annual
Goodwin | 400 | 200
Lutheran | 650 | 325
Northeast | 6000 | 3000
Palmetto | 3000 | 1500
South Broward | 2200 | 1100
Texas Tech | 500 | 250
Total | 12750 | 6375

Written comments and recommendations concerning the proposed information collection should be sent within 30 days of this notice to the desk officer for HRSA, either by e-mail to OIRA_submission@omb.eop.gov or by fax to 202-395-6974. Please direct all correspondence to the “attention of the desk officer for HRSA.”

Dated: February 27, 2009.
Alexandra Huttinger,
Director, Division of Policy Review and Coordination.

[FR Doc. E9-5102 Filed 3-10-09; 8:45 am]

BILLING CODE 4165-15-P